DEPARTMENT OF THE INTERIOR

National Park Service

Notice of Inventory Completion: County of Nacogdoches, Nacogdoches, TX

AGENCY: National Park Service, Interior.

ACTION: Notice.

Notice is here given in accordance with the Native American Graves Protection and Repatriation Act (NAGPRA), 25 U.S.C. 3003, of the completion of an inventory of human remains and associated funerary objects in the control of the County of Nacogdoches, Nacogdoches, TX. The human remains and associated funerary objects were removed from Nacogdoches County, TX.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the County of Nacogdoches through the services of qualified preservation professionals in consultation with representatives of the Caddo Nation of Oklahoma.

In 2004, human remains representing a minimum of five individuals were removed from 41NA231, also known as the Tallow Grove site, in the Lake Naconiche project area, Nacogdoches County, TX. The removal was associated with archeological data recovery in an area to be impacted by construction and/or operation of Lake Naconiche. All human remains and associated funerary objects have been in the custody of the principal investigator. No known individuals were identified. The four associated funerary objects are two bowls and two jars.

The Tallow Grove site, 41NA231, is a Middle Caddo Period habitation on a late Holocene terrace near Naconiche Creek. The temporal context is supported by recovered temporally diagnostic artifacts, radiocarbon analyses, and oxidizable carbon ratio dates. The main occupation of the site took place between the early part of the 13th century and approximately A.D. 1480, and was preceded by an earlier Woodland Period occupation that dates from 110 B.C. to A.D. 435. None of the radiocarbon-dated features are earlier than the Middle Caddo Period. The small cemetery (approximately 8 x 6 meters), situated near the remnants of several structures, and an extensive midden deposit and outdoor work area, contained the five burials with preserved human remains, one burial pit with no preserved human remains but with unassociated funerary objects, and two other burial pits with neither preserved human remains nor funerary objects. The mortuary practices and types of associated funerary objects are consistent with the traditions of the Caddo Indian peoples. Preserved funerary offerings included pottery vessels placed near the shoulders or head with two of the burials. Geographic placement of the site and archeological evidence provide reasonable grounds for officials of the County of Nacogdoches to believe that the human remains and associated funerary objects are culturally affiliated with the Caddo Nation of Oklahoma.

In 2004, human remains representing a minimum of one individual were removed from 41NA242, also known as the Beech Ridge site, in the Lake Naconiche project area, Nacogdoches County, TX. The removal was associated with archeological data recovery in an area to be impacted by construction and/or operation of Lake Naconiche. All human remains have been in the custody of the principal investigator. No known individual was identified. No associated funerary objects are present.

The Beech Ridge site, 41NA242, is a prehistoric Caddo period settlement occupied from A.D. 1250 to 1430, and is generally contemporaneous with the nearby Tallow Grove site. The temporal context is supported by recovered temporally diagnostic artifacts, radiocarbon analyses, and oxidizable carbon ratio dates. The Middle Caddo occupation of the Beech Ridge site consisted of two principal occupational areas at the northern and southern ends of an eroded terrace landform that included structures, indoor and outdoor pit features, and activity areas around the structures. An open courtyard separated the two occupational or household areas. The burial with preserved human remains, along with one other burial pit with no preserved human remains or associated funerary objects, was situated west of the structures. Geographic placement of the site and archeological evidence provide reasonable grounds for officials of the County of Nacogdoches to believe that the human remains are culturally affiliated with the Caddo Nation of Oklahoma.

In 2003, human remains representing a minimum of two individuals were removed from 41NA285, also known as the Boyette site, in the Lake Naconiche project area, Nacogdoches County, TX. The removal was associated with archeological data recovery in an area to be impacted by construction and/or operation of Lake Naconiche. All human remains and associated funerary objects have been in the custody of the principal investigator. No known individuals were identified. The one associated funerary object is a pottery vessel (bowl).

The Boyette site, 41NA285, is positioned on the tip of a narrow upland ridge, toe slope, and small alluvial terrace. The site has a complex history of occupations beginning with the Late Archaic Period (2310-2050 B.C. to 1130-920 B.C), followed by two Woodland Period occupations (280-25 B.C. and A.D. 670-877), and two Prehistoric Caddo occupations (Formative Caddo component dating to A.D. 873-1075 and a Middle Caddo component). The temporal context is supported by recovered temporally diagnostic artifacts, radiocarbon analyses, and oxidizable carbon ratio dates. Radiocarbon dates place both burials in the Middle Caddo Period, one within a range of A.D. 1290-1410, and the other within a range of A.D. 1230-1300. Preserved funerary offerings included one pottery vessel, a Holly Fine Engraved bowl, that had been placed near the shoulders or head with one of the burials. Geographic placement of the site and archeological evidence provide reasonable grounds for officials of the County of Nacogdoches to believe that the human remains and associated funerary object are culturally affiliated with the Caddo Nation of Oklahoma.

Officials of the County of Nacogdoches have determined that, pursuant to 25 U.S.C. 3001 (9-10), the human remains described above represent the physical remains of eight individuals of Native American ancestry. Officials of the County of Nacogdoches also have determined that, pursuant to 25 U.S.C. 3001 (3)(A), the five objects described above are reasonably believed to have been placed with or near individual human remains at the time of death or later as part of the death rite or ceremony. Lastly, officials of the County of Nacogdoches have determined that, pursuant to 25 U.S.C. 3001 (2), there is a relationship of shared group identity that can be reasonably traced between the Native American human remains and associated funerary objects and the Caddo Nation of Oklahoma.

Representatives of any other Indian tribe that believes itself to be culturally affiliated with the human remains and/or associated funerary objects should contact George Campbell, County of Nacogdoches, Texas, 101 West Main Street, Nacogdoches, TX 75961, telephone (936) 569-6772, before April 13, 2009. Repatriation of the human remains and associated funerary objects to the Caddo Nation of Oklahoma may proceed after that date if no additional claimants come forward.

The County of Nacogdoches is responsible for notifying the Caddo Nation of Oklahoma that this notice has been published.

Dated: February 20, 2009.
David Tarler,
Acting Manager, National NAGPRA Program.

[FR Doc. E9-5332 Filed 3-11-09; 8:45 am]

BILLING CODE 4312-50-S